DEPARTMENT OF TRANSPORTATION

Federal Aviation Administration

Airborne Radar Altimeter Equipment (For Air Carrier Aircraft)

AGENCY: Federal Aviation Administration (FAA), DOT.

ACTION: Cancellation of Technical Standard Order (TSO)-C67, Airborne Radar Altimeter Equipment (For Air Carrier Aircraft).

SUMMARY: This is a confirmation notice of the cancellation of TSO-C67, Airborne Radar Altimeter Equipment (For Air Carrier Aircraft). The effect of the cancelled TSO will result in no new TSO-C67 design or production approvals. However, cancellation will not affect any current production of an existing TSO authorization (TSOA). Articles produced under an existing TSOA can still be installed per the existing airworthiness approvals, and all applications for new airworthiness approvals will still be processed.

SUPPLEMENTARY INFORMATION:

Background

On November 15, 1960, the FAA published TSO-C67, Airborne Radar Altimeter Equipment (for air carrier aircraft). Since 1978, there have been no new applications for TSOA for TSO-C67. Our research indicates there are no authorized manufacturers currently manufacturing, advertising, or selling TSO-C67 compliant equipment. Therefore, given the obsolescence of the equipment, and the lack of industry interest in TSO-C67 product designs, we proposed cancelling TSO-C67. Please note that TSO-C87, Airborne Low Range Radio Altimeter, is currently used for Radio Altimeter certification and is not affected by this action.

Comments

There were no comments received during the public comment period of the Federal Register Notice of the FAA's intent to cancel TSO-C67.

Conclusion

TSO-C67 is cancelled effective September 30, 2012. Please note that TSO-C87, Airborne Low Range Radio Altimeter, is currently used for Radio Altimeter certification and is not affected by this action.

Issued in Washington, DC, on April 6, 2012.
Susan J.M. Cabler,
Assistant Manager, Aircraft Engineering Division, Aircraft Certification Service.

[FR Doc. 2012-8653 Filed 4-10-12; 8:45 am]

BILLING CODE 4910-13-P